DEPARTMENT OF AGRICULTURE

Forest Service

Mendocino Resource Advisory Committee

AGENCY: Forest Service, USDA.

ACTION: Notice of meeting.

SUMMARY: The Mendocino County Resource Advisory Committee will meet May 20, 2005, (RAC) in Covelo, California. Agenda items to be covered include: (1) Approval of minutes, (2) Public Comment, (3) Sub-committees (4) Discussion—items of interest (5) Next agenda and meeting date.

DATES: The meeting will be held on May 20, 2005, from 9:30 a.m., until day trip is completed.

ADDRESSES: The meeting will be held on the Mendocino National Forest. We will travel the M1 Road for the day looking at various proposed projects along the way.

FOR FURTHER INFORMATION CONTACT: Roberta Hurt, Committee Coordinator, USDA, Mendocino National Forest, Covelo Ranger District, 78150 Covelo Road, Covelo CA 95428 (707) 983-8503; e-mail rhurt@fs.fed.us.

SUPPLEMENTARY INFORMATION: The meeting is open to the public. Persons who wish to bring matters to the attention of the Committee may file written statements with the Committee staff by May 15, 2005. Public comment will have the opportunity to address the committee at the meeting.

Dated: May 6, 2005.
Blaine Baker,
Designated Federal Official.

[FR Doc. 05-9743 Filed 5-16-05; 8:45 am]

BILLING CODE 3410-11-M